DEPARTMENT OF HEALTH AND HUMAN SERVICES

Administration for Children and Families

Submission for OMB Review; Comment Request

Title: LIHEAP Quarterly Allocation Estimates Form ACF-535.

OMB No.: 0970-0037.

Description: The LIHEAP Quarterly Allocation Estimates Form-535 is a one-page form that is sent to 50 State grantees and to the District of Columbia. It is also sent to Tribal Government grantees that receive over $1 million annually for the Low Income Home Energy Assistance Program (LIHEAP). Grantees are asked to complete and submit the form in the 4th quarter of each year. The data collected on the form are the grantee's estimates of obligations they expect to make each quarter of the upcoming fiscal year. This is the only method used to request anticipated distributions of the grantee's LIHEAP funds. The information is used to develop apportionment requests and make grant awards based on each grantee's need. Information collected on this form is not available through any other Federal source. Submission of the form is voluntary.

Respondents: 50 States, the District of Columbia and Tribal Governments that receive over $1 million annually.

Annual Burden Estimates:

Instrument | Number of respondents | Number of responses per respondent | Average burden hours per response | Total burden hours
ACF-353 | 55 | 1 | .25 | 14
Estimated Total Annual Burden Hours: |  |  |  | 14

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 6, 2001.
Bob Sargis,
Reports Clearance Officer.

[FR Doc. 01-28384 Filed 11-9-01; 8:45 am]

BILLING CODE 4184-01-M